DEPARTMENT OF THE TREASURY

United States Mint

Pricing for the Silver Medals

AGENCY: United States Mint, Department of the Treasury.

ACTION: Notice.

SUMMARY: The United States Mint is announcing pricing for Silver Medals as follows:

Product | Retail price
Presidential Silver Medals | $75.00
Armed Forces 1 oz. Silver Medal | 75.00
Armed Forces 2.5 oz. Silver Medals | 175.00

FOR FURTHER INFORMATION CONTACT: Ann Bailey, Sr. Program Manager for Sales and Marketing; United States Mint; 801 9th Street NW; Washington, DC 20220; or call 202-354-7500.

Authority: 31 U.S.C. 5111(a)(2).

Eric Anderson,
Executive Secretary, United States Mint.

[FR Doc. 2023-02549 Filed 2-6-23; 8:45 am]

BILLING CODE 4810-37-P